DEPARTMENT OF THE INTERIOR

Fish and Wildlife Service

[FWS-R8-ES-2021-N171; FXES11130800000-201-FF08E00000]

Endangered and Threatened Species; Receipt of Recovery Permit Applications

AGENCY: Fish and Wildlife Service, Interior.

ACTION: Notice of receipt of permit applications; request for comments.

SUMMARY: We, the U.S. Fish and Wildlife Service, have received applications for permits to conduct activities intended to enhance the propagation or survival of endangered or threatened species under the Endangered Species Act. We invite the public and local, State, Tribal, and Federal agencies to comment on these applications. Before issuing any of the requested permits, we will take into consideration any information that we receive during the public comment period.

DATES: We must receive your written comments on or before August 9, 2021.

ADDRESSES:

Document availability and comment submission: Submit requests for copies of the applications and related documents and submit any comments by one of the following methods. All requests and comments should specify the applicant name(s) and application number(s) (e.g., TEXXXXXX).

• Email: permitsr8es@fws.gov.

• U.S. Mail: Susie Tharratt, Regional Recovery Permit Coordinator, U.S. Fish and Wildlife Service, 2800 Cottage Way, Room W-2606, Sacramento, CA 95825.

FOR FURTHER INFORMATION CONTACT: Susie Tharratt, via phone at 760-414-6561, via email at permitsr8es@fws.gov, or via the Federal Relay Service at 1-800-877-8339 for TTY assistance.

SUPPLEMENTARY INFORMATION: We, the U.S. Fish and Wildlife Service, invite the public to comment on applications for permits under section 10(a)(1)(A) of the Endangered Species Act, as amended (ESA; 16 U.S.C. 1531 et seq.). The requested permits would allow the applicants to conduct activities intended to promote recovery of species that are listed as endangered or threatened under the ESA.

Background

With some exceptions, the ESA prohibits activities that constitute take of wildlife species listed as endangered and, by regulation, certain wildlife species listed as threatened unless a Federal permit is issued that allows such activity. The ESA's definition of “take” includes such activities as pursuing, harassing, trapping, capturing, or collecting, in addition to hunting, shooting, harming, wounding, or killing.

A recovery permit issued by us under section 10(a)(1)(A) of the ESA authorizes the permittee to conduct activities with endangered or threatened species for scientific purposes that promote recovery or for enhancement of propagation or survival of the species. These activities often include such prohibited actions as capture and collection. Our regulations implementing section 10(a)(1)(A) for these permits are found in the Code of Federal Regulations at 50 CFR 17.22 for endangered wildlife species, 50 CFR 17.32 for threatened wildlife species, 50 CFR 17.62 for endangered plant species, and 50 CFR 17.72 for threatened plant species.

Permit Applications Available for Review and Comment

Proposed activities in the following permit requests are for the recovery and enhancement of propagation or survival of the species in the wild. The ESA requires that we invite public comment before issuing these permits. Accordingly, we invite local, State, Tribal, Federal agencies and the public to submit written data, views, or arguments with respect to these applications. The comments and recommendations that will be most useful and likely to influence agency decisions are those supported by quantitative information or studies.

Application No. | Applicant, city, state | Species | Location | Take activity | Permit action
ES-63371B | Rheanna Neidinger, Apple Valley, California | • Southwestern willow flycatcher (Empidonax traillii extimus) | CA | Play taped vocalizations, capture, collect genetic samples, handle, band, and release | Amend.
ES-134338 | Brenna Ogg, San Diego, California | • Quino checkerspot butterfly (Euphydryas editha quino) • Conservancy fairy shrimp (Branchinecta conservatio) | CA | Pursue, capture, handle, collect vouchers, and release | Renew.
|  | • Longhorn fairy shrimp (Branchinecta longiantenna)
|  | • San Diego fairy shrimp (Branchinecta sandiegonensis)
|  | • Riverside fairy shrimp (Streptocephalus woottoni)
|  | • Vernal pool tadpole shrimp (Lepidurus packardi)
ES-834492 | Julie Thomas, Morro Bay, California | • Conservancy fairy shrimp (Branchinecta conservatio) • Longhorn fairy shrimp (Branchinecta longiantenna) | CA | Capture, handle, collect vouchers, and release | Renew.
|  | • San Diego fairy shrimp (Branchinecta sandiegonensis)
|  | • Riverside fairy shrimp (Streptocephalus woottoni)
|  | • Vernal pool tadpole shrimp (Lepidurus packardi)
ES-60153B | Mary Belk, New Braunfels, Texas | • Conservancy fairy shrimp (Branchinecta conservatio) • Longhorn fairy shrimp (Branchinecta longiantenna) | CA | Capture, handle, collect vouchers, release, and conduct formal training workshops | Renew.
|  | • San Diego fairy shrimp (Branchinecta sandiegonensis)
|  | • Riverside fairy shrimp (Streptocephalus woottoni)
|  | • Vernal pool tadpole shrimp (Lepidurus packardi)
ES-067347 | Crysta Dickson, San Clemente, California | • Quino checkerspot butterfly (Euphydryas editha quino) • Conservancy fairy shrimp (Branchinecta conservatio) | CA | Pursue, capture, handle, collect vouchers, and release | Renew.
|  | • Longhorn fairy shrimp (Branchinecta longiantenna)
|  | • San Diego fairy shrimp (Branchinecta sandiegonensis)
|  | • Riverside fairy shrimp (Streptocephalus woottoni)
|  | • Vernal pool tadpole shrimp (Lepidurus packardi)
ES-58760A | Jason Yakich, Forest Knolls, California | • California clapper rail (Rallus longirostris obsoletus) • California tiger salamander (Santa Barbara County and Sonoma County distinct population segments (DPSs)) (Ambystoma californiense) | CA | Play taped vocalization, capture, handle, collect vouchers, and release | Renew.
|  | • Conservancy fairy shrimp (Branchinecta conservatio)
|  | • Longhorn fairy shrimp (Branchinecta longiantenna)
|  | • San Diego fairy shrimp (Branchinecta sandiegonensis)
|  | • Riverside fairy shrimp (Streptocephalus woottoni)
|  | • Vernal pool tadpole shrimp (Lepidurus packardi)
ES-170389 | Travis Cooper, San Diego, California | • Quino checkerspot butterfly (Euphydryas editha quino) • Conservancy fairy shrimp (Branchinecta conservatio) | CA | Pursue, play taped vocalization, capture, handle, collect vouchers, and release | Renew.
|  | • Longhorn fairy shrimp (Branchinecta longiantenna)
|  | • San Diego fairy shrimp (Branchinecta sandiegonensis)
|  | • Riverside fairy shrimp (Streptocephalus woottoni)
|  | • Vernal pool tadpole shrimp (Lepidurus packardi)
|  | • Southwestern willow flycatcher (Empidonax traillii extimus)
|  | • Least Bell's vireo (Vireo bellii pusillus)
PER0008376 | Mark Noyes, Lincoln, California | • Conservancy fairy shrimp (Branchinecta conservatio) • Longhorn fairy shrimp (Branchinecta longiantenna) | CA | Capture, handle, collect vouchers, and release | New.
|  | • San Diego fairy shrimp (Branchinecta sandiegonensis)
|  | • Riverside fairy shrimp (Streptocephalus woottoni)
|  | • Vernal pool tadpole shrimp (Lepidurus packardi)
|  | • California least tern (Sterna antillarum browni)
|  | • California tiger salamander (Santa Barbara County and Sonoma County distinct population segments (DPSs)) (Ambystoma californiense)
ES-148552 | Holly Burger, Berkeley, California | • San Francisco garter snake (Thamnophis sirtalis tetrataenia) | CA | Capture, handle, and release | Renew.
ES-835549 | Charles Black, San Diego, California | • Conservancy fairy shrimp (Branchinecta conservatio) • Longhorn fairy shrimp (Branchinecta longiantenna) • San Diego fairy shrimp (Branchinecta sandiegonensis) • Riverside fairy shrimp (Streptocephalus woottoni) • Vernal pool tadpole shrimp (Lepidurus packardi) | CA | Capture, handle, collect vouchers, collect soil samples for resting egg identification, hydrate eggs for hatching and identification, release, and (for plants) remove and reduce to possession from lands under federal jurisdiction | Renew.
|  | • San Diego button-celery (Eryngium aristulatum var. parishii)
|  | • San Diego mesa-mint (Pogogyne abramsii)
|  | • California Orcutt grass (Orcuttia californica)
|  | • Willowy monardella (Monardella viminea)
ES-135948 | Natalie Brodie, San Diego, California | • Quino checkerspot butterfly (Euphydryas editha quino) | CA | Pursue | Renew.
ES-172638 | Kevin Livergood, Anaheim, California | • Conservancy fairy shrimp (Branchinecta conservatio) • Longhorn fairy shrimp (Branchinecta longiantenna) | CA | Capture, handle, collect vouchers, and release | Renew.
|  | • San Diego fairy shrimp (Branchinecta sandiegonensis)
|  | • Riverside fairy shrimp (Streptocephalus woottoni)
|  | • Vernal pool tadpole shrimp (Lepidurus packardi)
PER0009927 | Martina Pernicano, Golden, Colorado | • Southwestern willow flycatcher (Empidonax traillii extimus) | AZ, CA, CO, NE, NM, OR, UT, WA | Play taped vocalization | Renew.
ES-787924 | Markus Spiegelberg, San Diego, California | • Southwestern willow flycatcher (Empidonax traillii extimus) • Pacific pocket mouse (Perognathus longimembris pacificus) | CA | Play taped vocalization, capture, handle, and release | Renew and Amend.
|  | • San Bernardino Merriam's kangaroo rat (Dipodomys merriami parvus)
ES-50992B | Antonette Gutierrez, Imperial Beach, California | • Least Bell's vireo (Vireo bellii pusillus) | CA | Monitor nests, and remove brown-headed cowbird (Molothrus ater) eggs and chicks from parasitized nests | Amend.
PER0010680 | David Moskovitz, Diamond Bar, California | • Conservancy fairy shrimp (Branchinecta conservatio) • Longhorn fairy shrimp (Branchinecta longiantenna) | CA | Capture, handle, collect vouchers, and release | Renew.
|  | • San Diego fairy shrimp (Branchinecta sandiegonensis)
|  | • Riverside fairy shrimp (Streptocephalus woottoni)
|  | • Vernal pool tadpole shrimp (Lepidurus packardi)
ES-64580A | Nicholas Rice, Las Vegas, Nevada | • Yuma Ridgway's (clapper) rail (Rallus obsoletus [=longirostris] yumanensis) • Southwestern willow flycatcher (Empidonax traillii extimus) | CA | Play taped vocalizations | Renew and Amend.
PER0010753 | Brenda Bennett, San Diego, California | • Quino checkerspot butterfly (Euphydryas editha quino) • Conservancy fairy shrimp (Branchinecta conservatio) | CA | Pursue, capture, handle, collect vouchers, and release | New.
|  | • Longhorn fairy shrimp (Branchinecta longiantenna)
|  | • San Diego fairy shrimp (Branchinecta sandiegonensis)
|  | • Riverside fairy shrimp (Streptocephalus woottoni)
|  | • Vernal pool tadpole shrimp (Lepidurus packardi)
PER0010754 | Rebecca Green, Shaver Lake, California | • Fisher (Southern Sierra Nevada distinct population segment) (Pekania pennanti) | CA | Capture, handle, attach radio collars, use remote cameras, collect hair via hair snares, use track plates, and release | New.
PER0010755 | Christian Knowlton, San Jose, California | • California tiger salamander (Santa Barbara County and Sonoma County distinct population segments (DPSs)) (Ambystoma californiense) | CA | Capture, handle, and release | New.
PER0010773 | Alicia Arcidiacono, Paicines, California | • Southwestern willow flycatcher (Empidonax traillii extimus) | CA | Play taped vocalization and monitor nests | New.
PER0010786 | Erika Eidson, La Mesa, California | • Quino checkerspot butterfly (Euphydryas editha quino) • Southwestern willow flycatcher (Empidonax traillii extimus) | CA | Pursue and play taped vocalizations | Renew and amend.
ES-768251 | Biosearch Associates, Santa Cruz, California | • California tiger salamander (Santa Barbara County and Sonoma County distinct population segments (DPSs)) (Ambystoma californiense) | CA | Capture, handle, collect voucher or tissue, mark, and release | Renew.
|  | • Fresno kangaroo rat (Dipodomys nitratoides exilis)
|  | • Tipton kangaroo rat (Dipodomys nitratoides nitratoides)
|  | • San Francisco garter snake (Thamnophis sirtalis tetrataenia)
|  | • Santa Cruz long-toed salamander (Ambystoma macrodactylum croceum)
PER0011851 | Helix Environmental Planning, Inc., La Mesa, California | • California tiger salamander (Santa Barbara County and Sonoma County distinct population segments (DPSs)) (Ambystoma californiense) • Quino checkerspot butterfly (Euphydryas editha quino) | CA | Pursue, capture, handle, collect vouchers, collect soil samples, identify eggs within soil samples, and release | Renew.
|  | • Southwestern willow flycatcher (Empidonax traillii extimus)
|  | • Conservancy fairy shrimp (Branchinecta conservatio)
|  | • Longhorn fairy shrimp (Branchinecta longiantenna)
|  | • San Diego fairy shrimp (Branchinecta sandiegonensis)
|  | • Riverside fairy shrimp (Streptocephalus woottoni)
|  | • Vernal pool tadpole shrimp (Lepidurus packardi)
ES-67397A | Timothy Ricks, Las Vegas, Nevada | • Yuma Ridgway's (clapper) rail (Rallus obsoletus [=longirostris] yumanensis) • Southwestern willow flycatcher (Empidonax traillii extimus) | NV | Play taped vocalizations | Renew and Amend.
PER0011946 | Tara Cornelisse, Santa Rosa, California | • Ohlone tiger beetle (Cicindela ohlone) | CA | Capture, handle, release, and conduct habitat enhancement activities | New.
PER0011950 | Brian Nissen, San Ramon, California | • California tiger salamander (Santa Barbara County and Sonoma County distinct population segments (DPSs)) (Ambystoma californiense) | CA | Capture, handle, and release | New.
PER0011954 | Daniel Schrimsher, Salinas, California | • Sierra Nevada yellow-legged Frog (Rana sierrae) | CA | Capture, handle, and release | New.
PER0011958 | Quad Knopf, Inc., Clovis, California | • Buena Vista Lake ornate shrew (Sorex ornatus relictus) • Tipton kangaroo rat (Dipodomys nitratoides nitratoides) | CA | Capture, handle, collect vouchers, mark, and release | Renew.
|  | • Fresno kangaroo rat (Dipodomys nitratoides exilis)
|  | • Giant kangaroo rat (Dipodomys ingens)
|  | • California tiger salamander (Santa Barbara County and Sonoma County distinct population segments (DPSs)) (Ambystoma californiense)
|  | • Conservancy fairy shrimp (Branchinecta conservatio)
|  | • Longhorn fairy shrimp (Branchinecta longiantenna)
|  | • San Diego fairy shrimp (Branchinecta sandiegonensis)
|  | • Riverside fairy shrimp (Streptocephalus woottoni)
|  | • Vernal pool tadpole shrimp (Lepidurus packardi)
PER0011963 | Ian Hirschler, San Diego, California | • Quino checkerspot butterfly (Euphydryas editha quino) • Conservancy fairy shrimp (Branchinecta conservatio) | CA | Pursue, capture, handle, collect vouchers, and release | Renew.
|  | • Longhorn fairy shrimp (Branchinecta longiantenna)
|  | • San Diego fairy shrimp (Branchinecta sandiegonensis)
|  | • Riverside fairy shrimp (Streptocephalus woottoni)
|  | • Vernal pool tadpole shrimp (Lepidurus packardi)
ES-67253D | City of Eureka (Sequoia Park Zoo), Eureka California | • California condor (Gymnogyps californianus) | AZ, CA, ID, NM, NV, UT | Transport wild or captive-bred individuals from release sites and other permitted breeding projects, conduct health checks, treat injured or sick individuals, hold in release pens, and release | Amend.
PER0012535 | Laura Gorman, Encinitas, California | • Southwestern willow flycatcher (Empidonax traillii extimus) | CA, NV | Play taped vocalizations | Renew.
PER0012877 | Jared Elia, Concord, California | • California tiger salamander (Santa Barbara County and Sonoma County distinct population segments (DPSs)) (Ambystoma californiense) | CA | Capture, handle, and release | Amend.
ES-044846 | U.S. Geological Survey and National Park Service, Ventura, California | • Arabis hoffmannii (Boechera hoffmannii) (Hoffmann's rock-cress) • Arctostaphylos confertiflora (Santa Rosa Island manzanita) • Berberis pinnata subsp. insularis (island barberry) | CA | Remove and reduce to possession; collect vouchers, fruit, seed, and vegetative material for banking, propagation, and genetic research | Renew
|  | • Castilleja mollis (soft-leaved paintbrush)
|  | • Dudleya traskiae (Santa Barbara Island liveforever)
|  | • Galium buxifolium (island bedstraw)
|  | • Gilia tenuiflora subsp. hoffmannii (Hoffmann's slender-flowered gilia)
|  | • Malacothamnus fasciculatus var. nesioticus (Santa Cruz Island bush-mallow)
|  | • Malacothrix indecora (Santa Cruz Island malacothrix)
|  | • Malacothrix squalida (Island malacothrix)
|  | • Phacelia insularis subsp. insularis (island phacelia)
|  | • Thysanocarpus conchuliferus (Santa Cruz Island fringepod)

Public Availability of Comments

Written comments we receive become part of the record associated with this action. Before including your address, phone number, email address, or other personal identifying information in your comment, you should be aware that your entire comment—including your personal identifying information—may be made publicly available at any time. While you can request in your comment that we withhold your personal identifying information from public review, we cannot guarantee that we will be able to do so. All submissions from organizations or businesses, and from individuals identifying themselves as representatives or officials of organizations or businesses, will be made available for public disclosure in their entirety.

Next Steps

If we decide to issue permits to any of the applicants listed in this notice, we will publish a notice in the Federal Register.

Authority

We publish this notice under section 10(c) of the Endangered Species Act of 1973, as amended (16 U.S.C. 1531 et seq.).

Peter Erickson,
Acting Regional Ecological Services Program Leader, California-Great Basin Region 10 (formerly Pacific Southwest Regional Office-Region 8).

[FR Doc. 2021-14519 Filed 7-7-21; 8:45 am]

BILLING CODE 4333-15-P